DEPARTMENT OF ENERGY

Federal Energy Regulatory Commission

[Docket No. RP13-237-000]

Texas Eastern Transmission, LP; Notice of Technical Conference

The Commission's November 29, 2012 Order in the above-captioned proceeding ¹ directed that a technical conference be held to address issues raised by Texas Eastern Transmission, LP's proposed revisions to its Applicable Shrinkage Adjustment percentages and adjustments.

¹ Texas Eastern Transmission, LP, 141 FERC ¶61,172 (2012).

Take notice that a technical conference will be held on Tuesday, January 15, 2013 at 9:30 a.m., in a room to be designated at the offices of the Federal Energy Regulatory Commission, 888 First Street NE., Washington, DC 20426.

FERC conferences are accessible under section 508 of the Rehabilitation Act of 1973. For accessibility accommodations please send an email to accessibility@ferc.gov or call toll free (866) 208-3372 (voice) or 202-502-8659 (TTY), or send a fax to 202-208-2106 with the required accommodations.

All interested persons and staff are permitted to attend. For further information please contact David Maranville at (202) 502-6351 or email David.Maranville@ferc.gov.

Dated: December 10, 2012.
Kimberly D. Bose,
Secretary.

[FR Doc. 2012-30264 Filed 12-14-12; 8:45 am]

BILLING CODE 6717-01-P